DEPARTMENT OF HEALTH AND HUMAN SERVICES

Centers for Disease Control and Prevention

Disease, Disability, and Injury Prevention and Control Special Emphasis Panel (SEP): Initial Review

The meeting announced below concerns Detecting Emerging Vector-Borne Zoonotic Pathogens in Indonesia, Funding Opportunity Announcement (FOA) CK12-002, initial review.

Correction: The notice was published in the Federal Register on February 12, 2012, Volume 77, Number 22, Page 5257. The time and date should read as follows:

Time and Date: 1 p.m.-5 p.m., March 29, 2012 (Closed).

Contact Person For More Information: Gregory Anderson, M.P.H., M.S., Scientific Review Officer, CDC, 1600 Clifton Road NE., Mailstop E60, Atlanta, Georgia 30333, Telephone: (404) 718-8833.

The Director, Management Analysis and Services Office, has been delegated the authority to sign Federal Register notices pertaining to announcements of meetings and other committee management activities, for both the Centers for Disease Control and Prevention and the Agency for Toxic Substances and Disease Registry.

Dated: February 23, 2012.
Elaine L. Baker,
Director, Management Analysis and Services Office, Centers for Disease Control and Prevention.

[FR Doc. 2012-5073 Filed 3-1-12; 8:45 am]

BILLING CODE 4163-18-P